DEPARTMENT OF TRANSPORTATION

Federal Aviation Administration

14 CFR Part 39

[Docket No. FAA-2013-1031; Directorate Identifier 2013-NM-155-AD; Amendment 39-17854; AD 2014-11-04]

RIN 2120-AA64

Airworthiness Directives; Airbus Airplanes

AGENCY: Federal Aviation Administration (FAA), Department of Transportation (DOT).

ACTION: Final rule.

SUMMARY: We are adopting a new airworthiness directive (AD) for certain Airbus Model A330-200, A330-200 Freighter, and A330-300 series airplanes; and Model A340-200, A340-300, A340-500, and A340-600 series airplanes. This AD was prompted by a non-connection of the constant speed motor/generator (CSM/G) during a final assembly operational test. This AD requires a detailed inspection of the connector wires for connector 1XE-A of the generator control unit (GCU)-CSM/G for discrepancies (evidence of arcing or overheating damage), and related investigative and corrective actions if necessary. We are issuing this AD to detect and correct incorrect locking of contacts into connector 1XE-A of the GCU-CSM/G, which could result in a loss of contact continuity and lead to the CSM/G not operating, which, in conjunction with an emergency electrical configuration loss of the main electrical system or total engine flameout, could adversely affect the airplane's safe flight.

DATES: This AD becomes effective July 15, 2014.

The Director of the Federal Register approved the incorporation by reference of a certain publications listed in this AD as of July 15, 2014.

ADDRESSES: You may examine the AD docket on the Internet at http://www.regulations.gov/#!docketDetail;D=FAA-2013-1031; or in person at the Docket Management Facility, U.S. Department of Transportation, Docket Operations, M-30, West Building Ground Floor, Room W12-140, 1200 New Jersey Avenue SE., Washington, DC.

For service information identified in this AD, contact Airbus SAS, Airworthiness Office—EAL, 1 Rond Point Maurice Bellonte, 31707 Blagnac Cedex, France; telephone +33 5 61 93 36 96; fax +33 5 61 93 45 80; email airworthiness.A330-A340@airbus.com; Internet http://www.airbus.com. You may view this referenced service information at the FAA, Transport Airplane Directorate, 1601 Lind Avenue SW., Renton, WA. For information on the availability of this material at the FAA, call 425 227-1221.

FOR FURTHER INFORMATION CONTACT: Vladimir Ulyanov, Aerospace Engineer, International Branch, ANM-116, Transport Airplane Directorate, FAA, 1601 Lind Avenue SW., Renton, WA 98057-3356; telephone 425-227 1138; fax 425-227-1149.

SUPPLEMENTARY INFORMATION:

Discussion

We issued a notice of proposed rulemaking (NPRM) to amend 14 CFR part 39 by adding an AD that would apply to certain Airbus Model A330-200, A330-200 Freighter, and A330-300 series airplanes; and Model A340-200, A340-300, A340-500, and A340-600 series airplanes. The NPRM published in the Federal Register on December 26, 2013 (78 FR 78294).

The European Aviation Safety Agency (EASA), which is the Technical Agent for the Member States of the European Community, has issued EASA Airworthiness Directive 2013-0175, dated August 2, 2013 (referred to after this as the Mandatory Continuing Airworthiness Information, or “the MCAI”), to correct an unsafe condition for the specified products. The MCAI states:

During Final Assembly Line tests on an A330 aeroplane, the Generator Control Unit—Constant Speed Motor/Generator (GCU-CSM/G) failed the operational test.

Investigations revealed that it is due to incorrect locking of some contacts (pins) into the GCU-CSM/G connector 1XE-A. An inspection of other aeroplanes confirmed this production quality issue. Among the 26 pins used in GCU-CSM/G connector 1XE-A, 6 pins have been identified as potentially affected by this issue.

A badly locked contact could result in a loss of continuity [non-connection] and lead to the non-operation of the CSM/G.

This condition, if not detected and corrected, and in conjunction with either an emergency electrical configuration loss of main electrical system or total engine flame out, could jeopardize the aeroplane's safe flight.

To address this condition, Airbus developed Alert Operator Transmission (AOT) A24L001-13, to provide instructions for a one-time inspection.

For the reasons described above, this AD requires a one-time [detailed] inspection of the potentially affected connector wires of GCU-CSM/G connector 1XE-A and, depending on [the] finding, accomplishment of [a related investigative action] and applicable corrective actions.

You may examine the MCAI in the AD docket on the Internet at http://www.regulations.gov/#!documentDetail;D=FAA-2013-1031-0002.

Revised Service Information

Since the NPRM (78 FR 78294, December 26, 2013) was published, we have received Airbus Alert Operators Transmission A24L001-13, Revision 01, dated March 6, 2014. We have determined that this service information does not add any additional actions to those proposed in the NPRM, therefore, we have revised paragraph (g) of this AD to refer to that service information. We have also added a new paragraph (h) to this AD to provide credit for actions performed before the effective date of this AD using Airbus Alert Operators Transmission A24L001-13, dated July 25, 2013, and redesignated the subsequent paragraphs accordingly. Additionally, we have added paragraph (k), Material Incorporated by Reference, to the end of this AD.

Comments

We gave the public the opportunity to participate in developing this AD. The following presents the comment received on the NPRM (78 FR 78294, December 26, 2013) and the FAA's response to that comment.

Request To Clarify What Prompted the NPRM (78 FR 78294, December 26, 2013)

Airbus requested clarification in the SUMMARY section and paragraph (e) of the NPRM (78 FR 78294, December 26, 2013). Airbus stated that it was not “failure of the generator control unit-constant speed motor/generator during a final assembly operational test” that caused the unsafe condition, but a non-connection of the CSM/G during an operational test in the final assembly line. Investigations revealed an incorrect locking of some contacts into connector 1XE-A of the GCU-CSM/G.

We agree to revise the SUMMARY section and paragraph (e) of this final rule to state that this AD was prompted by a non-connection of the CSM/G during a final assembly operational test.

Changes to This Final Rule

Paragraphs (g)(1) and (g)(2) in the NPRM (78 FR 78294, December 26, 2013) have been combined into paragraph (g) in this final rule.

Conclusion

We reviewed the relevant data, considered the comment received, and determined that air safety and the public interest require adopting this AD with the changes described previously and minor editorial changes. We have determined that these minor changes:

• Are consistent with the intent that was proposed in the NPRM (78 FR 78294, December 26, 2013) for correcting the unsafe condition; and

• Do not add any additional burden upon the public than was already proposed in the NPRM (78 FR 78294, December 26, 2013).

We also determined that these changes will not increase the economic burden on any operator or increase the scope of this AD.

Costs of Compliance

We estimate that this AD affects 76 airplanes of U.S. registry.

We also estimate that it will take about 1 work-hour per product to comply with the basic requirements of this AD. The average labor rate is $85 per work-hour. Required parts will cost about $0 per product. Based on these figures, we estimate the cost of this AD on U.S. operators to be $6,460, or $85 per product.

In addition, we estimate that any necessary follow-on actions will take about 1 work-hour and require parts costing up to $17,314, for a cost of up to $17,399 per product. We have no way of determining the number of aircraft that might need this action.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify that this AD:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

Examining the AD Docket

You may examine the AD docket on the Internet at http://www.regulations.gov/#!docketDetail;D=FAA-2013-1031; or in person at the Docket Management Facility between 9 a.m. and 5 p.m., Monday through Friday, except Federal holidays. The AD docket contains this AD, the regulatory evaluation, any comments received, and other information. The street address for the Docket Operations office (telephone 800-647-5527) is in the ADDRESSES section.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2014-11-04 Airbus: Amendment 39-17854. Docket No. FAA-2013-1031; Directorate Identifier 2013-NM-155-AD.

(a) Effective Date

This AD becomes effective July 15, 2014.

(b) Affected ADs

None.

(c) Applicability

This AD applies to Airbus Model A330-201, -202, -203, -223, -223F, -243, -243F, -301, -302, -303, -321, -322, -323, -341, -342, -343 airplanes; and A340-211, -212, -213, -311, -312, -313, -541, and -642 airplanes; certificated in any category; manufacturer serial numbers (MSNs) 1 through 1391 inclusive, except MSNs 0925 and 1382.

(d) Subject

Air Transport Association (ATA) of America Code 24, Electrical Power.

(e) Reason

This AD was prompted by a non-connection of the constant speed motor/generator (CSM/G) during a final assembly operational test. We are issuing this AD to detect and correct incorrect locking of contacts into connector 1XE-A of the generator control unit (GCU)-CSM/G, which could result in a loss of contact continuity and lead to the CSM/G not operating, which, in conjunction with an emergency electrical configuration loss of the main electrical system or total engine flameout, could adversely affect the airplane's safe flight.

(f) Compliance

Comply with this AD within the compliance times specified, unless already done.

(g) Inspections and Corrective Actions

Within 1,000 flight hours after the effective date of this AD: Do a detailed inspection for discrepancies (proper engagement and evidence of arcing or overheating) of the affected connector wires of connector 1XE-A of the GCU-CSM/G, in accordance with Airbus Alert Operators Transmission A24L001-13, Revision 01, dated March 6, 2014. If any discrepancy is detected during the inspection, before further flight, do all applicable related investigative and corrective actions, in accordance with Airbus Alert Operators Transmission A24L001-13, Revision 01, dated March 6, 2014.

(h) Credit for Previous Actions

This paragraph provides credit for the actions required by paragraph (g) of this AD, if those actions were performed before the effective date of this AD using Airbus Alert Operators Transmission A24L001-13, dated July 25, 2013, which is not incorporated by reference in this AD.

(i) Other FAA AD Provisions

The following provisions also apply to this AD:

(1) Alternative Methods of Compliance (AMOCs): The Manager, International Branch, ANM-116, Transport Airplane Directorate, FAA, has the authority to approve AMOCs for this AD, if requested using the procedures found in 14 CFR 39.19. In accordance with 14 CFR 39.19, send your request to your principal inspector or local Flight Standards District Office, as appropriate. If sending information directly to the International Branch, send it to ATTN: Vladimir Ulyanov, Aerospace Engineer, International Branch, ANM-116, Transport Airplane Directorate, FAA, 1601 Lind Avenue SW., Renton, WA 98057-3356; telephone 425-227-1138; fax 425-227-1149. Information may be emailed to: 9-ANM-116-AMOC-REQUESTS@faa.gov. Before using any approved AMOC, notify your appropriate principal inspector, or lacking a principal inspector, the manager of the local flight standards district office/certificate holding district office. The AMOC approval letter must specifically reference this AD.

(2) Airworthy Product: For any requirement in this AD to obtain corrective actions from a manufacturer, use these actions if they are FAA-approved. Corrective actions are considered FAA-approved if they were approved by the State of Design Authority (or its delegated agent, or the Design Approval Holder with a State of Design Authority's design organization approval, as applicable). You are required to ensure the product is airworthy before it is returned to service.

(j) Related Information

(1) Refer to Mandatory Continuing Airworthiness Information (MCAI) European Aviation Safety Agency Airworthiness Directive 2013-0175, dated August 2, 2013, for related information. This MCAI may be found in the AD docket on the Internet at http://www.regulations.gov/#!documentDetail;D=FAA-2013-1031-0002.

(2) Service information identified in this AD that is not incorporated by reference may be viewed at the addresses specified in paragraphs (k)(3) and (k)(4) of this AD.

(k) Material Incorporated by Reference

(1) The Director of the Federal Register approved the incorporation by reference (IBR) of the service information listed in this paragraph under 5 U.S.C. 552(a) and 1 CFR part 51.

(2) You must use this service information as applicable to do the actions required by this AD, unless this AD specifies otherwise.

(i) Airbus Alert Operators Transmission A24L001-13, Revision 01, dated March 6, 2014.

(ii) Reserved.

(3) For service information identified in this AD, contact Airbus SAS, Airworthiness Office—EAL, 1 Rond Point Maurice Bellonte, 31707 Blagnac Cedex, France; telephone +33 5 61 93 36 96; fax +33 5 61 93 45 80; email airworthiness.A330-A340@airbus.com; Internet http://www.airbus.com.

(4) You may view this service information at the FAA, Transport Airplane Directorate, 1601 Lind Avenue SW., Renton, WA. For information on the availability of this material at the FAA, call 425-227-1221.

(5) You may view this service information that is incorporated by reference at the National Archives and Records Administration (NARA). For information on the availability of this material at NARA, call 202-741-6030, or go to: http://www.archives.gov/federal-register/cfr/ibr-locations.html.

Issued in Renton, Washington, on May 16, 2014.
Michael Kaszycki,
Acting Manager, Transport Airplane Directorate, Aircraft Certification Service.

[FR Doc. 2014-12444 Filed 6-9-14; 8:45 am]

BILLING CODE 4910-13-P